DEPARTMENT OF THE INTERIOR

Bureau of Land Management

[CA-180-1430-ET; CACA 41334]

Notice of Proposed Withdrawal and Opportunity for Public Meeting; California

AGENCY: Bureau of Land Management, Interior.

ACTION: Notice.

SUMMARY: The Bureau of Land Management proposes to withdraw 2,238.49 acres of public lands in El Dorado County to protect the South Fork of the American River. This notice closes the lands for up to 2 years from mining. The lands will remain open to mineral leasing and the Materials Act of 1947.

DATES: Comments and requests for a public meeting must be received by May 22, 2000.

ADDRESS: Comments and meeting requests should be sent to the Field Manager, BLM Folsom Field Office (CA-180), 63 Natoma Street, Folsom, California 95630.

FOR FURTHER INFORMATION CONTACT: John Beck, BLM Folsom Field Office, 916-985-4474.

SUPPLEMENTARY INFORMATION: On December 3, 1997, a petition was approved allowing the Bureau of Land Management to file an application to withdraw the following described public lands from location and entry under the United States mining laws, subject to valid existing rights:

Mount Diablo Meridian, California

T. 11 N., R. 9 E.,

Sec. 10, NW¼NW¼ and S½;

Sec. 12, lots 1 to 9 inclusive, NW¼SE¼NW¼, and NW¼NE¼SE¼.

Sec. 20, NE¼SW¼, N½SE¼, SE¼SE¼.

Sec. 28, SW¼NW¼ excluding Mineral Survey 5163, W½SW¼, and SE¼SW¼.

Sec. 30, lots 1 to 4 inclusive, SW¼NE¼, SE¼NW¼, E½SW¼, and SE¼.

Sec. 32, N½NE¼, SW¼NE¼, W½, and S½SE¼.

T. 11 N., R. 10 E.,

Sec. 18, lots 5, 6, and 7, and NW¼NE¼NW¼.

Sec. 22, NW¼SE¼, SW¼, and that portion of the E½NW¼ excluding lots 1, 4, and 5.

Sec. 26, SW¼.

The areas described aggregate 2,238.49 acres, more or less, in El Dorado County.

The purpose of the proposed withdrawal is to assure long term protection and preservation of the riparian areas, wildlife habitat, scenic quality, and high recreation values of the public lands located in the corridor of the South Fork of the American River. This proposed withdrawal is a new action which would supplement the withdrawal authorized by Public Land Order number 7423.

Until May 22, 2000, all persons who wish to submit comments, suggestions, or objections in connection with the proposed withdrawal may present their views in writing to the Field Manager, Folsom Field Office of the Bureau of Land Management.

Notice is hereby given that an opportunity for a public meeting is afforded in connection with the proposed withdrawal. All interested persons who desire a public meeting for the purpose of being heard on the proposed withdrawal must submit a written request to the California State Director by May 22, 2000. Upon determination by the authorized officer that a public meeting will be held, a notice of the time and place will be published in the Federal Register at least 30 days before the scheduled date of the meeting.

The application will be processed in accordance with the regulations set forth in 43 CFR 2300.

For a period of 2 years from the date of publication of this notice in the Federal Register, the lands will be segregated as specified above unless the application is denied or canceled or the withdrawal is approved prior to that date. The temporary uses which may be permitted during this segregative period are those which are compatible with the use of the lands, as determined by BLM.

Dated: February 11, 2000.
David McIlnay,
Chief, Branch of Lands.

[FR Doc. 00-3983 Filed 2-18-00; 8:45 am]

BILLING CODE 4310-40-P